DEPARTMENT OF HEALTH AND HUMAN SERVICES

Centers for Disease Control and Prevention

[Program Announcement 04001]

Grants for Education Programs in Occupational Safety and Health; Notice of Availability of Funds

Application Deadline: July 1, 2003.

A. Authority and Catalog of Federal Domestic Assistance Number

This program is authorized under section 670(a) of the Occupational Safety and Health Act (29 U.S.C. 670 (a)). The Catalog of Federal Domestic Assistance number is 93.263.

B. Purpose

The Centers for Disease Control and Prevention (CDC) announces the availability of fiscal year (FY) 2004 funds for a grant program for institutional training grants in occupational safety and health. This program addresses the “Healthy People 2010” focus area of Occupational Safety and Health.

The National Institute for Occupational Safety and Health (NIOSH) is mandated to provide an adequate supply of qualified personnel to carry out the purposes of the Occupational Safety and Health Act. The specific purpose of this program is to provide financial assistance to eligible applicants to assist in providing an adequate supply of qualified professional occupational safety and health personnel. Projects are funded to support Occupational Safety and Health Education and Research Center Training Grants (ERCs) and Training Project Grants (TPGs).

ERCs are academic institutions that provide interdisciplinary graduate training and continuing education in the industrial hygiene, occupational health nursing, occupational medicine, occupational safety, and closely related occupational safety and health fields. The ERCs also serve as regional resource centers for industry, labor, government, and the public. TPGs are academic institutions that primarily provide single-discipline graduate training in the industrial hygiene, occupational health nursing, occupational medicine, occupational safety, and closely related occupational safety and health fields. Measurable outcomes of the program will be in alignment with one or more of the following performance goals for the National Institute for Occupational Safety and Health: Ensure safer and healthier work environments for all Americans through information dissemination, knowledge transfer, and training.

C. Eligible Applicants

Any public or private educational or training institution that has demonstrated competency in the occupational safety and health field and is located in a State, the District of Columbia, the Commonwealth of Puerto Rico, the Virgin Islands, American Samoa, Guam, the Trust Territory of the Pacific Islands, Wake Island, Outer Continental Shelf lands defined in the Outer Continental Shelf Lands Act, Johnston Island, and any other U.S. Territory or Trust Territory not named herein are eligible to apply for an institutional training grant.

Applications may be submitted by:

• Universities.

• Colleges.

• Technical schools.

Note: Title 2 of the United States Code section 1611 states that an organization described in section 501c(4) of the Internal Revenue Code that engages in lobbying activities is not eligible to receive Federal funds constituting an award, grant or loan.

D. Funding

Availability of Funds

Approximately $3,825,000 is anticipated in FY 2004 to fund approximately 23 ERC and TPG awards, subject to availability of funds. It is expected that the awards will begin on or about July 1, 2004 and will be made for a 12-month budget period within a project period of up to 5 years. Funding estimates may change. ERC individual program awards will be made for a 12-month budget period within a project period not to exceed that of the main ERC training grant.

Continuation awards within an approved project period will be made on the basis of satisfactory progress as evidenced by required reports and the availability of funds.

Use of Funds

At least 50 percent of the funds awarded for each grant must be used for direct trainee expenses. Post-doctoral trainee support is discouraged with the exception of occupational medicine residents. Under this announcement, only one award will be made to any single institution or organization.

Recipient Financial Participation

Matching funds are not required for this program.

Funding Preferences

Funding for ERCs: Approximately $2,640,000 of the total funds available will be utilized as follows:

1. Approximately $2,400,000 is available to award four competing continuation or new ERC grants. This includes a total of $160,000 to augment the support of trainees in occupational medicine residency programs. Awards will range from $400,000 to $800,000 with the average award being $600,000.

2. Approximately $120,000 is available to award two competing continuation or new training grants; one of the awards is planned for $60,000 for a Hazardous Substance Academic Training (HSAT) Program and one of the awards is planned for $60,000 for a Hazardous Substance Training (HST) Program. The awards are to support the development and presentation of continuing education and short courses (HST Programs), and academic curricula (HSAT Programs) for trainees and professionals engaged in the management of hazardous substances. Program support is available for faculty and staff salaries, trainee costs, and other costs to provide training and education for occupational safety and health and other professional personnel engaged in the evaluation, management, and handling of hazardous substances.

3. Approximately $120,000 is available to award two competing continuation or new grants to support the enhancement of the ERC research training mission through the support of pilot project research training programs.

Funding for TPGs: Approximately $780,000 is available to fund twelve competing continuation or new TPG grants. Awards will range from $20,000 to $100,000, with the average award being $65,000. This includes a total of $40,000 to augment the support of trainees in occupational medicine residency programs. These awards will support academic programs in the core disciplines (i.e., industrial hygiene, occupational health nursing, occupational medicine, and occupational safety and ergonomics) and relevant components (e.g., occupational injury prevention, industrial toxicology, and ergonomics).

These awards are intended to augment the scope, enrollment, and quality of training programs rather than to replace funds already available for current operations.

Funding for ERCs and TPGs: Approximately $405,000 is available to fund three competing continuation or new grants for occupational injury prevention research training. Awards will range from $75,000 to $150,000, with the average award being $135,000. This program is intended to encourage new occupational injury prevention research training programs and will only support doctoral-level training and trainees. In institutions with existing NIOSH-funded occupational safety/ergonomics and/or injury epidemiology programs, funding will be considered for the addition of a doctoral-level program only if it is not part of the existing NIOSH-funded program. For the purpose of this announcement, only doctoral-level programs with a specific concentration in occupational injury prevention will be considered. The proposed program must be described in detail, with objectives, competencies and how achieved in specified courses, curricula, recruitment, faculty and other program features. Institutions submitting proposed programs under this announcement that also have existing NIOSH-funded programs in safety/ergonomics and/or injury epidemiology must describe in detail how the proposed program differs from the existing program. In some instances, it may be necessary to replace the existing program funding with funding available under this announcement.

E. Program Requirements

In conducting activities to achieve the purpose of this program, the recipient will be responsible for the following activities that define the ERC and TPG programs to be conducted:

1. All Applicants are required to provide Measures of Effectiveness that will demonstrate the accomplishment of the various objectives of the grant. Measures must be objective/quantitative and must measure the intended outcomes. These Measures of Effectiveness shall be submitted with the application and shall be an element of evaluation.

2. ERC Applicants shall be an identifiable organizational unit within the sponsoring organization. Applicants must meet the following characteristics in order to be considered for an award. If the characteristics are not met, the application will be considered non-responsive and will be returned to the applicant without a review.

a. Cooperative arrangements with a medical school or teaching hospital (with an established program in preventive or occupational medicine), a school of nursing or its equivalent, a school of public health or its equivalent, or a school of engineering or its equivalent. It is expected that other schools or departments with relevant disciplines and resources shall be represented and shall contribute as appropriate to the conduct of the total program, e.g., epidemiology, toxicology, biostatistics, environmental health, law, business administration, and education. Specific mechanisms to implement the cooperative arrangements between departments, schools/colleges, universities, etc., shall be demonstrated in order to assure that the intended interdisciplinary training and education will be engendered.

b. An ERC Director who possesses a demonstrated capacity for sustained productivity and leadership in occupational health and safety education and training. The Director shall oversee the general operation of the ERC Program and shall, to the extent possible, directly participate in training activities. A Deputy Director shall be responsible for managing the daily administrative duties of the ERC and to increase the ERC Director's availability to ERC staff and to the public.

c. Program Directors who are full-time faculty and professional staff representing various disciplines and qualifications relevant to occupational safety and health who are capable of planning, establishing, and carrying out or administering training projects undertaken by the ERC. Each academic program, as well as the continuing education and outreach program, shall have a Program Director.

d. Faculty and staff with demonstrated training and research expertise, appropriate facilities and ongoing training and research activities in occupational safety and health areas.

e. A program for conducting education and training for four core disciplines: Occupational physicians, occupational health nurses, industrial hygienists, and occupational safety personnel. ERC core academic programs are intended to provide multi-level practitioner and research training. Core academic programs should offer masters degrees and, in research institutions, doctoral degrees. There shall be a minimum of five full-time students or full-time equivalent students in each of the core programs and a minimum of three full-time students or full-time equivalent students in each of the component programs, with a goal of a minimum of 30 full-time students (total in all of core and component programs together). ERCs are encouraged to recruit and train minority students to help address the under-representation of minorities among the occupational safety and health professional workforce. Although it is desirable for an ERC to have the full range of core programs, an ERC with a minimum of three academic programs of which two are in the core disciplines is eligible for support providing it is demonstrated that students will be exposed to the principles and issues of all four core disciplines. In order to maximize the unique strengths and capabilities of institutions, consideration will be given to the development of new and innovative academic component programs that are relevant to the occupational safety and health field, e.g., ergonomics, industrial toxicology, occupational injury prevention, occupational epidemiology, health services research, and agricultural safety and health; and to innovative technological approaches to training and education. ERCs must also document that the program covers an occupational safety and health discipline in critical need or meets a specific regional workforce need. Each core program curriculum shall include courses from non-core categories as well as appropriate clinical rotations and field experiences with public health and safety agencies and with labor-management health and safety groups. Where possible, field experience shall involve students representing other disciplines in a manner similar to that used in team surveys and other team approaches. ERCs should address the importance of providing training and education content related to special populations at risk, including minority workers and other sub-populations specified in the National Occupational Research Agenda (NORA) special populations at risk category.

f. A specific plan describing how trainees in core and component academic programs will be exposed to the principles of all other occupational safety and health core and allied disciplines. ERCs that apply as a consortium (contracting with other institutional partners) generally have geographic, policy and other barriers to achieving this ERC characteristic and, therefore, must give special, innovative, attention to thoroughly describing the approach for fulfilling interdisciplinary interaction between students.

g. Demonstrated impact of the ERC on the curriculum taught by relevant medical specialties, including family practice, internal medicine, dermatology, orthopedics, pathology, radiology, neurology, perinatal medicine, psychiatry, etc., and on the curriculum of undergraduate, graduate and continuing education of primary core disciplines as well as relevant medical specialties and the curriculum of other schools such as engineering, business, and law.

h. An outreach program to interact with and help other institutions or agencies located within the region. Programs shall be designed to address regional needs and implement innovative strategies for meeting those needs. Partnerships and collaborative relationships shall be encouraged between ERCs and TPGs. Programs to address the under-representation of minorities among occupational safety and health professionals shall be encouraged. Specific efforts should be made to conduct outreach activities to develop collaborative training programs with academic institutions serving minority and other special populations, such as Tribal Colleges and Universities, Historically Black Colleges and Universities, and Hispanic-Serving Institutions. Examples of outreach activities might include: Interaction with other colleges and schools within the ERC and with other universities or institutions in the region to integrate occupational safety and health principles and concepts within existing curricula (e.g., Colleges of Business Administration, Engineering, Architecture, Law, and Arts and Sciences); exchange of occupational safety and health faculty among regional educational institutions; providing curriculum materials and consultation for curriculum/course development in other institutions; use of a visiting faculty program to involve labor and management leaders; cooperative and collaborative arrangements with professional societies, scientific associations, and boards of accreditation, certification, or licensure; and presentation of awareness seminars to undergraduate and secondary educational institutions (e.g., high school science fairs and career days) as well as to labor, management and community associations.

i. A specific plan for preparing, distributing and conducting courses, seminars and workshops to provide short-term and continuing education training courses for physicians, nurses, industrial hygienists, safety engineers and other occupational safety and health professionals, paraprofessionals and technicians, including personnel from labor-management health and safety committees, in the geographical region in which the ERC is located. The goal shall be that the training be made available to a minimum of 400 trainees per year representing all of the above categories of personnel, on an approximate proportional basis with emphasis given to providing occupational safety and health training to physicians in family practice, as well as industrial practice, industrial nurses, and safety engineers. Priority shall be given to establishing new and innovative training technologies, including distance learning programs and to short-term programs designed to prepare a cadre of practitioners in occupational safety and health. Where appropriate, it shall be professionally acceptable that Continuing Education Units (as approved by appropriate professional associations) may be awarded. These courses should be structured so that higher educational institutions, public health and safety agencies, professional societies or other appropriate agencies can utilize them to provide training at the local level to occupational health and safety personnel working in the workplace. Further, the ERC shall conduct periodic training needs assessments, shall develop a specific plan to meet these needs, and shall have demonstrated capability for implementing such training directly and through other institutions or agencies in the region. The ERC should establish and maintain cooperative efforts with labor unions, government agencies, and industry trade associations, where appropriate, thus serving as a regional resource for addressing the problems of occupational safety and health that are faced by State and local governments, labor and management.

j. A Board of Advisors or Consultants representing the user and affected population, including representatives of labor, industry, government agencies, academic institutions and professional associations, shall be established by the ERC. The Board should meet at least annually to advise an ERC Executive Committee and to provide periodic evaluation of ERC activities. The Executive Committee shall be composed of the ERC Director and Deputy Director, academic Program Directors, the Director for Continuing Education and Outreach and others whom the ERC Director may appoint to assist in governing the internal affairs of the ERC.

k. A plan to incorporate research training into all aspects of training and, in research institutions, as documented by on-going funded research and faculty publications, a defined research training plan for training doctoral-level researchers in the occupational safety and health field. The plan will include how the ERC intends to strengthen existing research training efforts, how it will integrate research training activities into the curriculum, field and clinical experiences, how it will expand these research activities to have an impact on other primarily clinically-oriented disciplines, such as nursing and medicine, and how it will build on and utilize existing research opportunities in the institution. Each ERC is required to identify or develop a minimum of one, preferably more, areas of research focus related to work environment problems. Consideration should be given to the CDC/NIOSH priority research areas identified in the National Occupational Health Research Agenda (NORA). Further information regarding NORA may be found at the CDC/NIOSH Internet address: http://www.cdc.gov/niosh/norhmpg.html. The research training plan will address how students will be instructed and instilled with critical research perspectives and skills. This training will emphasize the importance of developing and working on interdisciplinary teams appropriate for addressing a research issue. It should also prepare students with the skill necessary for developing research protocols, pilot studies, outreach efforts to transfer research findings into practice, and successful research proposals. Such components of research training will require the ERCs to strive toward developing the faculty composition and administrative infrastructure essential to being Centers of Excellence in Occupational Safety and Health Research Training that are required to train research leaders of the future. The plan should address the incremental growth of such elements and evaluation of the plan commensurate with funds available. In addition to the research training components, the plan will also include such items as specific strategies for obtaining student and faculty funding, plans for acquiring equipment, if appropriate, and a plan for developing research-oriented faculty.

1. Evidence in obtaining support from other sources, including other Federal grants, support from States and other public agencies, and support from the private sector including grants from foundations and corporate endowments, chairs, and gifts.

3. TPG Applicants must document that the program covers an occupational safety and health discipline in critical need or meets a specific regional workforce need. There shall be a minimum of three full-time students or full-time equivalent students in each academic program. Applicants should address the importance of providing training and education content related to special populations at risk, including minority and disadvantaged workers. The types of training currently eligible for support are:

a. Graduate training for practice, teaching, and research careers in occupational safety and health. Priority will be given to programs producing graduates in areas of greatest occupational safety and health need. Strong consideration will be given to the establishment of innovative training technologies including distance learning programs.

b. Undergraduate and other pre-baccalaureate training providing trainees with capabilities for positions in occupational safety and health professions.

c. Special technical or other programs for long-term training of occupational safety and health technicians or specialists.

F. Content

Applications

The Program Announcement title and number must appear in the application. Use the information in the Program Requirements, Other Requirements, and Evaluation Criteria sections to develop the application content. Your application will be evaluated on the criteria listed, so it is important to follow them in laying out your program plan. The narrative should be no more than fifteen pages per program, single-spaced, printed on one side, with one-inch margins, and unreduced 12-point font. The print must be clear and legible. Use standard size, black letters that can be clearly copied. Do not use photo reduction. Prepare all graphs, diagrams, tables, and charts in black ink. The application must contain only material that can be photocopied. Do not include course catalogue and course brochures. When additional space is needed to complete any of the items, use plain white paper (8.5 x 11 inches), leave one inch margins on each side, identify each item by its title, and type the name of the program director and the grant number (if the application is a competitive renewal) in the upper right corner of each page. All pages, including Appendices should be numbered consecutively at least one-half inch from the bottom edge.

Please consult the detailed Recommended Outline for Preparation of Competing New/Renewal Training Grant Applications (CDC 2.145 A) available at the Internet address listed in section J.

G. Submission and Deadline

Application Forms

Submit the signed original and two copies of CDC 2.145 A-ERC or TPG (OMB Number 0920-0261). Applications should be clearly identified as an application for an ERC Training Grant or TPG Training Grant. Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time July 1, 2003. Submit the application to: Technical Information Management—PA#04001, CDC Procurement and Grants Office, 2920 Brandywine Road, Atlanta, GA 30341-4146.

Applications may not be submitted electronically.

CDC Acknowledgement of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the grant. Measures of effectiveness must relate to the performance goals stated in the purpose section of this announcement. Measures must be objective and quantitative and must measure the intended outcome. These measures of effectiveness must be submitted with the application and will be an element of evaluation.

Upon receipt, applications will be reviewed by CDC/NIOSH for completeness. Incomplete applications will be returned to the applicant without further consideration. Those applications judged to be competitive will be further evaluated individually against the following criteria and the extent to which they have been met. The initial peer review will be conducted by means of a panel meeting or site visit. The purpose of the initial review is to obtain basic information regarding elements of the proposed training grant program and to provide a technical report as input to the Special Emphasis Panel. Site visits will be made for new ERC and TPG applications, competing continuation ERC applications, and competing continuation TPG applications that have undergone major program changes during the previous project period. Since the site visits are not assured and depend on the availability of funds, the application is considered a complete document for review purposes. All other competing continuation applications will be initially reviewed by a panel. This panel review includes telephone communication with the proposed Program Directors and serves to clarify elements of the application and answer reviewer questions. Site visitors and panel members are extramural peer reviewers with education and expertise in specific occupational safety and health disciplines.

The final official peer review will be conducted by a Special Emphasis Panel (SEP) appointed by CDC. SEP members are extramural peer reviewers with occupational safety and health expertise in the program areas under review, and include selected members of initial site visit and panel review teams. Each of the following criteria will be addressed and considered by the peer reviewers in assigning the overall priority score weighting them as appropriate for each application. If an application is deemed responsive and of significant merit, a priority score will be assigned using the 100-500 range representing adjectival equivalents from outstanding (100) to acceptable (500). Note that applications do not need to be strong in all categories to be judged likely to have a major scientific impact and thus deserve a good priority score. The NIOSH Training Grants Council provides an internal programmatic review and provides funding recommendations to the Director of NIOSH based programmatic relevance of competing applications to the NIOSH goals and objectives.

The Special Emphasis Panel will evaluate each application against the following criteria:

1. ERC comprehensive evaluation criteria are as follows:

a. Plans to satisfy the regional needs for training in the areas outlined by the application, including projected enrollment, recruitment and current workforce populations. Special consideration should be given to the development of programs addressing the under-representation of minorities among occupational safety and health professionals. Indicators of regional need should include measures utilized by the ERC such as previous record of training and placement of graduates. The need for supporting students in allied disciplines must be specifically justified in terms of user community requirements.

b. Extent to which arrangements for day-to-day management, allocation of funds and cooperative arrangements are designed to effectively achieve the Characteristics of an Education and Research Center (see E.2).

c. The establishment of new and innovative programs and approaches to training and education relevant to the occupational safety and health field and based on documentation that the program meets specific regional workforce needs. In reviewing such proposed programs, consideration should be given to the developing nature of the program and its capability to produce graduates who will meet such workforce needs.

d. Extent to which curriculum content and design includes formalized training objectives, minimal course content to achieve degree, course descriptions, course sequence, additional related courses open to occupational safety and health students, time devoted to lecture, laboratory and field experience, and the nature of specific field and clinical experiences including their relationships with didactic programs in the educational process.

e. Academic training including the number of full-time and part-time students and graduates for each core and component program, the placement of graduates, employment history, and their current location by type of institution (academic, industry, labor, etc.). Previous continuing education training in each discipline and outreach activity and assistance to groups within the ERC region.

f. Methods in use or proposed methods for evaluating the effectiveness of training and outreach including the use of placement services and feedback mechanisms from graduates as well as employers, innovative strategies for meeting regional needs, critiques from continuing education courses, and reports from consultations and cooperative activities with other universities, professional associations, and other outside agencies.

g. Competence, experience and training of the ERC Director, the Deputy ERC Director, the Program Directors and other professional staff in relation to the type and scope of training and education involved.

h. Institutional commitment to ERC goals. An example of institutional commitment to the long-term stability of ERC programs is the commitment of tenured or tenure-track faculty positions to each participating academic program.

i. Academic and physical environment in which the training will be conducted, including access to appropriate occupational settings.

j. Extent to which the budget is adequate, justified, and consistent with the intended use of the grant funds. This includes a separate budget for the academic staff's time and effort in continuing education and outreach.

k. Evidence of the integration of research experience into the curriculum, and field and clinical experiences. In institutions seeking funds for doctoral and post-doctoral (physician training) level research training, evidence of a plan describing the research and research training the ERC proposes. This should include goals, elements of the program, research faculty and amount of effort, support faculty, facilities and equipment available and needed, and methods for implementing and evaluating the program.

l. Evidence of success in attaining outside support to supplement the ERC grant funds including other Federal grants, support from States and other public agencies, and support from the private sector including grants from foundations and corporate endowments, chairs, and gifts.

m. Evidence of a strategy to evaluate the impact that the ERC and its programs have had on the region served by the Center. Examples could include a continuing education needs assessment and action plan, a workforce needs survey and action plan, consultation and research programs provided to address regional occupational safety and health problems, the impact on primary care practice and training, a program graduate data base to track the employment history and contributions of graduates to the occupational safety and health field, and the cost effectiveness of the program.

n. Past performance based on evaluation of the most recent CDC/NIOSH Peer Review Summary Statement and the grant application Progress Report (Competing Continuation applications only).

2. ERC specialty program evaluation criteria are as follows:

a. Hazardous Substance Training Program in Education and Research Centers:

(1) Relevance of the proposed project to each element of the characteristics of a hazardous substance training program.

(2) Comprehensiveness and soundness of the training plan developed to carry out the proposed activities. This is based on a documented need for the training and evidence to support the approach used to provide the required training. It includes descriptions of the scope and magnitude of the hazardous substance problem in the region served by the ERC and current activities and training efforts.

(3) Education and experience of the Project Director, faculty, and staff assigned to this project with respect to handling, managing or evaluating hazardous substance sites and to the training of professionals in this field.

(4) Creativity and innovation of the project leadership with respect to marketing the courses, structure in attracting trainees and/or providing incentives for training.

(5) Extent to which the applicant considered the work of relevant agencies involved in hazardous substance activities, including EPA, and cooperated with these agencies in developing and implementing this training program.

(6) Suitability of facilities and equipment available for this project.

(7) Extent to which the budget is adequate, justified, and consistent with the intended use of the grant funds.

b. Agricultural Safety and Health Education Programs in Education and Research Centers:

(1) Evidence of a needs assessment directed to the overall contribution of the training program toward meeting the job market, especially within the applicant's region, for qualified personnel to carry out the purposes of the Occupational Safety and Health Act of 1970. The needs assessment should consider the regional requirements for outreach, continuing education, information dissemination and special industrial or community training needs that may be peculiar to the region.

(2) Evidence of a plan to satisfy the regional needs for training in the areas outlined by the application, including projected enrollment, recruitment and current workforce populations. The need for supporting students in allied disciplines must be specifically justified in terms of user community requirements.

(3) The extent to which arrangements for day-to-day management, allocation of funds and cooperative arrangements are designed to effectively achieve characteristics of an ERC.

(4) The extent to which curriculum content and design includes formalized training objectives, minimal course content to achieve degree, course descriptions, course sequence, additional related courses open to occupational safety and health students, time devoted to lecture, laboratory and field experience, and the nature of specific field and clinical experiences including their relationships with didactic programs in the educational process.

(5) Previous record of academic training in agricultural safety and health including the number of full-time and part-time students and graduates, the placement of graduates, employment history, and their current location by type of institution (academic, industry, labor, etc.). Previous record of continuing education training in agricultural safety and health and record of outreach activity and assistance to agricultural groups within the ERC region.

(6) Methods in use or proposed for evaluating the effectiveness of training and services including the use of placement services and feedback mechanisms from graduates as well as employers, critiques from continuing education courses, and reports from consultations and cooperative activities with other universities, professional associations, and other outside agencies.

(7) The competence, experience and training of the Program Director and other professional staff in relation to the type and scope of training and education involved.

(8) Institutional commitment to Center goals.

(9) Academic and physical environment in which the training will be conducted, including access to appropriate occupational agricultural settings.

(10) Extent to which the budget is adequate, justified, and consistent with the intended use of the grant funds. This includes the budget for the academic program and the continuing education and outreach program.

(11) Evidence of a plan describing the agricultural safety and health training the Center proposes. This should include goals, elements of the program, faculty and amount of effort, support faculty, facilities and equipment available and needed, and methods for implementing and evaluating the program.

(12) Evidence of success in attaining outside support to supplement the ERC grant funds including other federal grants, support from states and other public agencies, and support from the private sector including grants from foundations and corporate endowments, chairs, and gifts.

c. Hazardous Substance Academic Training Program in Education and Research Centers:

(1) Evidence of a needs assessment directed to the overall contribution of the proposed training program toward meeting the needs of the job market, especially within the applicant's region. The needs assessment should consider the regional requirements for hazardous substance training, information dissemination and special industrial, labor or community training needs that may be peculiar to the region.

(2) Evidence of a plan to satisfy regional needs for training in the areas outlined by the application, including Program projected enrollment and recruitment and current workforce populations.

(3) The extent to which the HSAT curriculum content and design includes: Formalized training objectives; minimal course content to achieve a degree or successful completion of the specialty area requirements; course descriptions; course sequence; additional related courses open to occupational safety and health students; time devoted to lecture, laboratory, and field experience; and the nature of specific field and clinical experiences including their relationships with didactic programs in the educational process.

(4) Previous record of academic and/or short course training delivered in the hazardous substances field, including the number and type of students trained. Previous record of hazardous substances outreach activity and assistance to hazardous substance groups within the ERC's region.

(5) Methods in use or proposed for evaluating the effectiveness of training and services including the use of placement services and feedback mechanisms from graduates as well as employers, student evaluations from academic and continuing education courses, and reports from consultations and cooperative activities with other universities, professional associations, and other outside agencies.

(6) The competence, experience and training of the Program Director and other professional staff in relation to the type and scope of training and education involved.

(7) Institutional commitment to HSAT Program goals.

(8) Academic and physical environment in which the training will be conducted.

(9) Extent to which the budget is adequate, justified, and consistent with the intended use of the grant funds. This includes the budget required to support the training courses developed, as well as accounting for the academic staff's time.

(10) Evidence of a plan describing the hazardous substances academic training the Center proposes. This should include goals, elements of the program, faculty and amount of effort, support faculty, facilities and equipment available and needed, and methods for implementing and evaluating the program.

(11) Evidence of success in attaining outside support to supplement the ERC grant funds including other federal grants, support from states and other public agencies, and support from the private sector including grants from foundations and corporate endowments, chairs, and gifts.

(12) Extent to which the applicant has collaborated with state and federal agencies having hazardous substance management functions, including the U.S. Environmental Protection Agency, and has cooperated with the agencies in developing and implementing this program.

d. ERC Pilot Project Research Training Programs:

(1) Relevance of the proposed program, including objectives that are specific and consistent.

(2) Adequacy of the plan proposed to conduct the pilot projects program, including procedures for reviewing and funding projects, the scientific review mechanism, and program quality assurance.

(3) Extent to which the applicant demonstrates collaboration with other research training institutions in the region, including NIOSH Training Project Grantees.

(4) Education and experience of the proposed Research Training Program Director and faculty in the occupational safety and health field, including the utilization of pilot projects as a research training mechanism.

(5) Extent to which the budget is adequate, justified, and consistent with the intended use of the grant funds.

(6) Adequacy of the plan to evaluate the effectiveness of the proposed pilot projects program.

(7) Gender and minority issues—Are plans to include women, ethnic, and racial groups adequately developed (as appropriate for the scientific goals of the pilot projects)? (See AR-2, Requirements for Inclusion of Women and Racial and Ethnic Minorities in Research.)

e. ERC Health Services Research Training Programs:

(1) Evidence of a plan to satisfy the need for training in the area outlined by the application, including projected enrollment, recruitment and job opportunities. Indicators of need may include measures utilized by the Program such as previous record of training and placement of graduates. Indicate the potential contribution of the project toward meeting the need for this specialized training.

(2) Extent to which arrangements for day-to-day management, allocation of funds and cooperative arrangements are designed to effectively achieve the program requirements.

(3) Evidence of a plan describing the academic and research training the program proposes. This should include goals, elements of the program, research faculty and amount of effort, support faculty, facilities and equipment available and needed, and methods for implementing and evaluating the program.

(4) Extent to which curriculum content and design includes formalized training objectives, minimal course content to achieve degree, course descriptions, course sequence, additional related courses open to students, time devoted to lecture, and clinical and research experience addressing the relationship with didactic programs in the educational process.

(5) The extent to which the program effort is capable of supporting the number and type of students proposed.

(6) Extent to which the program has initiated collaborative relationships with external agencies and institutions to expand and strengthen its research capabilities by providing student and faculty research opportunities.

(7) Evidence of previous record of training in health services research and occupational safety and health, including placement of graduates and employment history.

(8) The extent to which the program documents methods in use or proposed methods for evaluating the effectiveness of the training, including the use of feedback mechanisms from graduates and employers, placement of graduates in research positions, research accomplishments of graduates and reports from consultations and cooperative activities with other universities, professional associations, and other outside agencies.

(9) Competence, experience and training of the Program Director, faculty and advisors in relation to the type and scope of research training and education involved.

(10) Degree of institutional commitment to Program goals.

(11) Adequacy of the academic and physical environment in which the training will be conducted, including access to appropriate occupational health research resources.

(12) The extent to which the budget is reasonable, adequately justified, and consistent with the intended use of the grant funds.

(13) Evidence of a plan for establishment of an Advisory Committee, including meeting times, roles and responsibilities.

3.TPG evaluation criteria are as follows:

a. Need for training in the program area outlined by the application. This should include documentation of a plan for student recruitment, projected enrollment, job opportunities, regional need both in quality and quantity, and for programs addressing the under-representation of minorities in the profession of occupational safety and health.

b. Potential contribution of the project toward meeting the needs for graduate or specialized training in occupational safety and health.

c. The establishment of new and innovative programs and approaches to training and education relevant to the occupational safety and health field and based on documentation that the program meets specific regional workforce needs. In reviewing such proposed programs, consideration should be given to the developing nature of the program and its capability to produce graduates who will meet such workforce needs.

d. Curriculum content and design which should include formalized program objectives, minimal course content to achieve degree, course sequence, related courses open to students, time devoted to lecture, laboratory and field experience, nature and the interrelationship of these educational approaches. There should also be evidence of integration of research experience into the curriculum, and field and clinical experiences.

e. Previous records of training in this or related areas, including placement of graduates.

f. Methods proposed to evaluate effectiveness of the training.

g. Degree of institutional commitment: Is grant support necessary for program initiation or continuation? Will support gradually be assumed? Is there related instruction that will go on with or without the grant? An example of institutional commitment to the long-term stability of TPG programs is the commitment of tenured or tenure-track faculty positions to each academic program.

h. Adequacy of facilities (classrooms, laboratories, library services, books, and journal holdings relevant to the program, and access to appropriate occupational settings).

i. Competence, experience, training, time commitment to the program and availability of faculty to advise students, faculty/student ratio, and teaching loads of the program director and teaching faculty in relation to the type and scope of training involved. The program director must be a full-time faculty member.

j. Admission Requirements: Student selection standards and procedures, student performance standards and student counseling services.

k. Advisory Committee: Membership, industries and labor groups represented; how often they meet; who they advise, role in designing curriculum and establishing program need. The Committee should meet at least annually to provide advice and periodic evaluation of TPG activities.

l. Evidence of a strategy to evaluate the impact that the program has had on the region. Examples could include a workforce needs survey and action plan, consultation and research programs provided to address regional occupational safety and health problems, a program graduate data base to track the employment history and contributions of graduates to the occupational safety and health field, and the cost effectiveness of the program.

m. Past performance based on evaluation of the most recent CDC/NIOSH Peer Review Summary Statement and the grant application Progress Report (Competing Continuation applications only).

n. Extent to which the budget is adequate, justified, and consistent with the intended use of the grant funds.

4. ERC and TPG applications for Occupational Injury Prevention Research Training Programs evaluation criteria are as follows:

a. Evidence of a plan to satisfy the need for training in the area outlined by the application, including projected enrollment, recruitment and job opportunities. Indicators of need may include measures utilized by the Program such as previous record of training and placement of graduates. Indicate the potential contribution of the project toward meeting the need for this specialized training.

b. Extent to which arrangements for day-to-day management, allocation of funds and cooperative arrangements are designed to effectively achieve the program requirements.

c. Evidence of a plan describing in detail the research training the program proposes. This should include goals, elements of the program, research faculty and amount of effort, support faculty, facilities and equipment available and needed, and methods for implementing and evaluating the program.

d. Extent to which curriculum content and design includes formalized training objectives, minimal course content to achieve degree, course descriptions, course sequence, additional related courses open to students, time devoted to lecture, and clinical and research experience addressing the relationship with didactic programs in the educational process.

e. The extent to which the program effort is capable of supporting the number and type of students proposed.

f. Extent to which the program has initiated collaborative relationships with external agencies and institutions to expand and strengthen its research capabilities by providing student and faculty research opportunities.

g. Evidence of previous record of training in occupational injury prevention, including placement of graduates and employment history.

h. The extent to which the applicant documents methods in use or proposed methods for evaluating the effectiveness of the training, including the use of feedback mechanisms from graduates and employers, placement of graduates in research positions, research accomplishments of graduates and reports from consultations and cooperative activities with other universities, professional associations, and other outside agencies.

i. Competence, experience and training of the Program Director, faculty and advisors in relation to the type and scope of research training involved.

j. Degree of institutional commitment to Program goals. An example of institutional commitment to the long-term stability of academic programs is the commitment of tenured or tenure-track faculty positions to each participating academic program.

k. Adequacy of the academic and physical environment in which the training will be conducted, including access to appropriate occupational injury prevention research resources.

l. The extent to which the budget is adequate, justified, and consistent with the intended use of the grant funds.

m. Evidence of a plan for establishment of an Advisory Committee, including meeting times, roles and responsibilities.

I. Other Requirements

Technical Reporting Requirements

Provide CDC with original plus two copies of:

1. The initial interim progress report is due December 1, 2004. This report is required on December 1, on an annual basis. The progress report will serve as your non-competing continuation application, and must contain the following elements:

a. Current Budget Period Objectives and Activities.

b. Current Budget Period Financial Progress.

c. New Budget Period Program Proposed Activities and Objectives.

d. Detailed Line-Item Budget and Justification.

e. Additional Requested Information.

2. Financial status report, no more than 90 days after the end of each budget period. The initial report is due September 30, 2005.

3. Final financial and performance reports, no more than 90 days after the end of the project period.

Send all reports to the Grants Management Specialist identified in the “Where to Obtain Additional Information” section of this announcement.

Additional Requirements:

The following additional requirements are applicable to this program. For a complete description of each, see Attachment I of the program announcement, as posted on the CDC Web site.

AR-2* Requirements for Inclusion of Women and Racial and Ethnic Minorities in Research

AR-3* Animal Subjects Requirements

AR-10 Smoke-Free Workplace Requirements

AR-11 Healthy People 2010

AR-12 Lobbying Restrictions

*Applies only to ERC Pilot Project Research Training Program applications.

Executive Order 12372 does not apply to this program.

J. Where To Obtain Additional Information

This and other CDC announcements, the necessary applications, and associated forms can be found on the CDC Web site, Internet address: http://www.cdc.gov. Click on “Funding” then “Grants and Cooperative Agreements”.

For general questions about this announcement, contact: Technical Information Management, CDC Procurement and Grants Office, 2920 Brandywine Road, Atlanta, GA 30341-4146, Telephone: 770-488-2700.

For business management and budget assistance, contact: Cynthia Y. Mitchell, Grants Management Specialist, Procurement and Grants Office, Program Announcement 04001, Centers for Disease Control and Prevention (CDC), 626 Cochrans Mill Rd., Mailstop P05, Pittsburgh, PA 15236, Telephone: (412) 386-6434, e-mail address: CMitchell@cdc.gov.

For program technical assistance, contact: John T. Talty, Principal Engineer, Office of Extramural Programs, National Institute for Occupational Safety and Health, Centers for Disease Control and Prevention (CDC), 4676 Columbia Parkway, Mailstop C-7, Cincinnati, OH 45226-1998, Telephone (513) 533-8241, e-mail address: jtt2@cdc.gov.

Dated: May 9, 2003.
Sandra R. Manning,
Director, Procurement and Grants Office, Centers for Disease Control and Prevention (CDC).

[FR Doc. 03-12107 Filed 5-14-03; 8:45 am]

BILLING CODE 4163-19-P